POSTAL SERVICE

39 CFR Part 111

Packaging Standards and General Mailability

AGENCY: Postal Service.

ACTION: Proposed rule.

SUMMARY: This proposed rule contains minor changes to the Domestic Mail Manual (DMM™) that would clarify packaging and closure requirements, types of acceptable mailing containers, and standards for certain articles processed on Postal Service™ parcel sorting equipment. This proposed rule would also update terminology and reorganize current standards for better reference and presentation.

DATES: Submit comments on or before March 29, 2004.

ADDRESSES: Mail or deliver comments to the Manager, Mailing Standards, Attn: Neil Berger, U.S. Postal Service, 1735 N. Lynn Street, Room 3025, Arlington, VA 22209-6038. Written comments may also be submitted by facsimile transmission to (703) 292-4058. Copies of all written comments will be available for inspection and photocopying between 9 a.m. and 4 p.m., Monday through Friday, at the Postal Service Headquarters Library, 11th Floor North, 475 L'Enfant Plaza, SW., Washington, DC.

FOR FURTHER INFORMATION CONTACT: Neil Berger at (703) 292-3645, Mailing Standards, U.S. Postal Service.

SUPPLEMENTARY INFORMATION: When the general mailability standards from Domestic Mail Manual (DMM) Issue 45 were consolidated and republished as part C010 in DMM Issue 46 on July 1, 1993, most of the same standards on packing, closing, and sealing mailable articles were also transferred to Postal Service Publication 2, Packaging for Mailing. In the intervening 10 years, the Postal Service has made relatively few editorial or substantive changes to the current mailing standards and information in either DMM C010 or in Publication 2.

With the growing awareness in effective package preparation, especially for parcels, the Postal Service believes that it is important to reexamine these mailing standards, update them where appropriate, and present them in a more logical sequence.

Throughout this document and the relevant DMM sections, the term “package” is used to mean a parcel, and is not to be confused with the same term used in conjunction with mail preparation and presort destination packages of letter-size and flat-size mailpieces.

The following listing represents the major proposed changes:

Part C010.2.0. This part would be slightly reorganized, with additional proposed packaging standards included about certain items such as liquids, high-density items, and hazardous materials that require special packaging and markings.

Part C010.3.0. This part would be slightly reorganized, with additional proposed packaging standards for boxes and changes to the minimum thickness of heat-shrinkable plastic film (shrinkwrap) acceptable for easy and average loads of up to 5 pounds. Proposed DMM C010.3.1d would restore the use of paper or plastic wrappers as an outside cover for a box if the paper is at least of 60-pound basis weight or the plastic is at least 2 mils thick and snugly secured to the box either with tape or heatshrinking. Proposed DMM C010.3.4 would increase the minimum thickness specification (mil) for plastic film used as the mailing container from ¾ mil for easy loads and 1¼ mils for average loads to a minimum thickness of 2 mils for either easy or average loads. This proposed change to a heavier film would be consistent with the current standards for plastic mailing bags in proposed DMM C010.3.3. This proposed change would also ensure that mailpieces using plastic film solely as the mailing container would maintain their integrity throughout transit, processing, and delivery.

Part C010.4.0. This part would contain the standards for special mailing envelopes currently in DMM C010.6.0.

Part C010.5.0. This part would include examples and the standards for cushioning material currently in DMM C010.4.0.

Part C010.6.0. This part would contain the standards for closing, sealing, and reinforcing parcels currently in DMM C010.5.0. Proposed changes would clarify that duct tape would not be acceptable for closing or reinforcing parcels. This part would include additional information on the various types of permissible tapes. This part would also expressly prohibit the use of twine or cord for closure and reinforcement.

Part C010.8.0. This part would be extensively amended and reorganized to clarify packaging standards and to separate the mailpiece weight categories for various types of articles weighing 35 pounds and under from those weighing more than 35 pounds. This proposed change would reflect the current separation between machinable and nonmachinable parcels based on the 35-pound threshold. Books, printed matter, and business forms do have a 25-pound weight limit for machinability as specified in DMM C700.2.0. Under DMM C010.8.5 for magnetic tapes, the minimum thickness for plastic film wraps for individual tapes would be changed from 0.00075 mil to ¾ mil, and the fiberboard and chipboard minimum specifications of 0.022 mil (also designated as 22 points) would be changed to 125-pound test fiberboard or equivalent.

M041.5.6. This section would be amended to specify that high-density parcels weighing 25 to 35 pounds would not be permitted on pallets containing machinable parcels.

USPS Publication 2. This proposed rule would eliminate Publication 2, Packaging for Mailing, after all pertinent information is transferred to the DMM.

Although exempt from the notice and comment requirements of the Administrative Procedure Act [5 U.S.C. 553(b), (c)] regarding proposed rulemaking by 39 U.S.C. 410(a), the Postal Service invites public comment on the following proposed revisions to the Domestic Mail Manual, incorporated in the Code of Federal Regulations. See 39 CFR 111.1.

List of Subjects in 39 CFR Part 111

Postal Service.

PART 111—[AMENDED]

1. The authority citation for 39 CFR part 111 continues to read as follows:

Authority: 5 U.S.C. 552(a); 39 U.S.C. 101, 401, 403, 404, 414, 416, 3001-3011, 3201-3219, 3403-3406, 3621, 3626, 5001.

2. Amend the following sections of the Domestic Mail Manual (DMM) as set forth below:

Domestic Mail Manual (DMM)

* * * * *

C Characteristics and Content

C000 General Information

C010 General Mailability Standards

* * * * *

2.0 PACKAGING

[Revise heading of 2.1 to read as follows:]

2.1 Preparation Adequacy

[Revise 2.1 to read as follows:]

Letters, flats, and parcels presented for mailing must be prepared under the general and specific standards in the Domestic Mail Manual. Parcels must be able to withstand normal transit and handling without breakage, injury to USPS® employees, or damage to other mail. In addition to the standards in 1.0, parcels must have an address side with enough surface area to accommodate completely the delivery address, return address, postage, markings, endorsements, and any barcode and special service markings. Separate and additional standards can apply to overseas military mail and international mail. Mailers can evaluate the adequacy of their packaging for parcels by using Test Procedure 1A developed by the International Safe Transit Association (ISTA) (see G043 for address).

2.2 Acceptability

[Revise 2.2 by adding 2.9 as the second sentence then revising to read as follows:]

No mailpiece may be prepared or packed so that its contents or physical construction could harm employees or damage equipment or other mail. Perishable items must be packed to prevent deterioration or degradation. Fragile items must be packed to withstand mail processing and transportation. Heavy items must be braced and cushioned to prevent damage to other mail. State and federal regulations can also affect the mailability of mailpieces containing items such as hazardous, biological, and restricted materials (see C020). The USPS accepts only properly prepared and marked letters, flats, and parcels and reserves the right to refuse nonmailable matter under 10.0 or any improperly prepared or packed article or substance.

[Revise title of 2.3 to read as follows:]

2.3 Special Items

[Revise 2.3 by combining with current 2.4, 2.5, 2.6, and 2.7 to read as follows:]

The following items require special attention in packaging:

a. Stationery. Stationery-type items measuring more than 1 inch thick or weighing more than 1 pound are not accepted in flat nongussetted envelopes. The contents must be unitized within the envelope or mailing container by tying, banding, or using partitions on close-fitting interior containers to prevent shifting, damage to the contents, and breakage to the envelope or mailing container.

b. Liquids. Mailpieces containing liquids must meet these additional standards:

(1) Containers with only friction-top closures (push-down types) are not acceptable. Screw-on caps, soldering, clips, or other means must be used for closure.

(2) Glass and other breakable containers of liquid with a capacity of more than 4 fluid ounces must be cushioned, with material sufficient to absorb any leakage in case of breakage, inside a sealed, leakproof container. Containers of liquid with a capacity of more than 32 fluid ounces must also be packed within another sealed, leakproof container such as a can or sealable plastic bag. The outer mailing container must be strong enough to protect the contents and must be marked to indicate the liquid nature of the contents. The marking “LIQUID” with orientation markings (i.e., up arrows) indicating the upright position of the mailing container may be used.

(3) Steel pails and drums with carrying handles and positive closures, such as locking rings or recessed spouts under screw-cap closures, may be accepted without additional packaging.

c. High-Density Items. These items are solid objects other than books (or similar publications) whose weight is comparatively high for their volume (e.g., tools, hardware, and machine and auto parts). High-density items weighing more than 15 pounds must be packed so that the contents do not exert more than 60 pounds per square foot (0.4167 pound per square inch) on the smallest side of the mailing container.

d. Perishable, Hazardous, or Restricted Items. These items must be packed and marked under C022, C023, or C024, respectively.

[Redesignate current 2.8 as new 2.4.]

2.4 Load Type

[Revise new 2.4 to read as follows:]

The following three terms describe types of loads, based on content, degree of protection, and strength of the package or mailing container:

a. An easy load contains items of moderate density that completely fill the mailing container, or are packed with sufficient surrounding cushioning materials that completely fill the mailing container or are packed in interior containers that completely fill the outer mailing container. This load type is not easily damaged by shock, compression, or puncture, and does not shift within the mailing container or present a hazard to other parcels.

b. An average load contains moderately concentrated items packed directly into a mailing container or are subjected to an intermediate stage of packing providing partial support to all surfaces of the mailing container. This load type can be prepacked by nesting items within partitions or in separate paperboard boxes to stabilize items and prevent shifting and damage.

c. A difficult load contains items that require a high degree of protection to prevent shock, puncture, or distortion to the items or the mailing container. Fragile items, delicate instruments, and high-density, small-bulky items that do not support the mailing container are not acceptable in paperboard boxes, bags, or wraps.

[Delete 2.9.]

[Revise heading of 3.0 to read as follows:]

3.0 MAILING CONTAINERS—PARCELS

3.1 Boxes

[Revise 3.1 by combining current 3.1a, 3.1b, 3.1c, and 3.1d into new 3.1a; by redesignating current 3.1e and 3.1f as 3.1b and 3.1c respectively; by adding new 3.1d; and by redesignating current 3.1g as 3.1e to read as follows:]

Boxes are acceptable, subject to these standards:

a. Box material:

[Revise 3.1a(1) by changing “up to 10 pounds” to “up to 5 pounds” in first sentence and “up to 20 pounds” to “up to 10 pounds” in the second sentence to read as follows:]

(1) Paperboard boxes (e.g., suitbox) may be used for easy and average loads up to 5 pounds if the contents and any cushioning material fill the boxes completely. Metal-stayed paperboard boxes may be used for easy and average loads up to 10 pounds.

(2) Solid and corrugated fiberboard boxes may be used for all load types as shown in Exhibit 3.1, unless otherwise specified. The first maximum reached whether combined length and girth or weight, determines the box grade required. The box grade (bursting strength) is printed within the boxmaker's certificate on the box and shows other specifications such as size and gross weight limits.

(3) Wood, metal, or plastic boxes may be used for all types of loads, assuming adequate construction. See 8.0 for USPS parcel sorting system standards.

Exhibit 3.1 Fiberboard Boxes

[Add new Exhibit 3.1 to read as follows:]

Maximum weight of box and content (pounds): Easy or average load | Maximum weight of box and content (pounds): Difficult load | Maximum length and girth (inches) | Box grade
20 | N/A | 67 | 125
40 | 20 | 100 | 175
65 | 45 | 108 | 200
70 | 65 | 108 | 275
N/A | 70 | 108 | 350
N/A | 70 | 130 | 350

b. The size of the box must be sufficiently adequate to contain the items and provide enough space for cushioning material. See 5.0.

c. Used boxes in good, rigid condition, with all flaps intact, are acceptable if all obsolete labels and markings (from previous mailings or other uses) are entirely removed or completely obliterated.

d. A paper wrapper such as kraft paper may be used as an outside cover for a box if the paper is at least of 60-pound basis weight and snugly secured to the box. A plastic cover may also be used as an outside cover if the plastic is at least 2 mils thick and snugly secured to the box by shrinkwrapping or heatshrinking.

e. Except for parcels prepared for destination delivery unit entry (e.g., Parcel Select®-DDU), boxes with difficult loads must be reinforced with banding about every 8 inches in each direction around the package.

[Delete 3.2 and redesignate current 3.3 through 3.10 as new 3.2 through 3.9, respectively.]

[Revise title and text of new 3.2 to read as follows:]

3.2 Paper Mailing Bags and Wraps

Paper mailing bags and wraps are acceptable as mailing containers only for easy and average loads (see 2.4) of up to 20 pounds and only if the contents are compressed and stabilized as much as possible. Paper bags and wraps are used according to these weight categories:

a. For easy loads of up to 5 pounds, paper bags and wraps must be at least of a 50-pound basis weight (the strength of an average large grocery bag) and the contents must be immune from impact or pressure damage. A combination of plies (double bagging) adding up to or exceeding a 50-pound basis weight is not acceptable.

b. For easy and average loads of up to 20 pounds, paper bags must be reinforced or at least of a 70-pound basis weight. Nonreinforced loose-fill padded bags are not acceptable as mailing containers, unless the exterior ply is at least of a 60-pound basis weight.

[Revise title and text of new 3.3 to read as follows:]

3.3 Plastic Mailing Bags

Bags of polyethylene or equivalent plastic material must be securely sealed and are acceptable only for easy loads (see 2.4) of up to 10 pounds as follows:

a. Up to 5 pounds, the plastic must be at least 2 mils thick.

b. More than 5 pounds and up to 10 pounds, the plastic must be at least 4 mils thick.

3.4 Plastic Film

[Revise new 3.4 by changing the required thickness for all permitted load types to at least 2 mils to read as follows:]

Heat-shrinkable plastic film (e.g., irradiated polyethylene, linear low-density polyolefin, or copolymer) is acceptable solely as a mailing container only for easy and average loads of up to 5 pounds. The film must be at least 2 mils thick. When requested, mailers must provide documentation that this film is being used for mailing.

3.5 Cloth Bags

[Revise the first sentence and add a new second sentence to 3.5 to read as follows:]

Cloth bags are acceptable only for easy and average loads of up to 10 pounds. All seams of the bags must equal the strength of the basic material. Adhesive address labels or adhesive postage may not be affixed to cloth sacks.

3.6 Bales

[Revise new 3.6 by changing “within postal weight limits” to “only for easy and average loads of up to 70 pounds” to read as follows:]

Bales are acceptable only for easy and average loads of up to 70 pounds, if adequately compressed and reinforced to contain the material.

3.7 Envelopes

[Revise new 3.7 to read as follows:]

Envelopes used as mailing containers must be able to be processed and delivered without damage to the contents or other mail. Envelopes made of extra-strength materials are necessary for items intended for processing on USPS parcel sorting equipment. Envelopes are acceptable only for easy loads of up to 5 pounds. Envelopes may be used for odd-shaped items, if the mailpiece meets the standards for that class of mail. Envelopes must be prepared according to these weight limits:

a. Up to 1 pound, flat nongusseted envelopes are acceptable for nonrigid stationery and similar material for mailpieces weighing no more than 1 pound and measuring no more than 1 inch thick.

b. Up to 5 pounds, larger or heavier envelopes are acceptable for mailpieces weighing more than 1 pound or measuring more than 1 inch thick. The envelopes must be made either from paper equivalent to 28-pound basis weight or greater, or from extra-strength materials with a Mullen strength of more than 90 pounds per square inch. Envelopes for photographic film or gusseted (three dimensional) envelopes are acceptable if made from paper equivalent to 24-pound basis weight or greater.

[Revise heading of new 3.8 to read as follows:]

3.8 Fiberboard Tubes and Similar Long Containers

[Revise new 3.8 by reorganizing text to read as follows:]

Fiberboard tubes and similar lengthy containers are acceptable if they meet these requirements:

a. The length must not exceed 10 times the girth.

b. The strength of the tube ends must be at least equal to the tube sidewall strength, unless the contents are lightweight, rolled items (e.g., posters, charts). Sidewall strength is always equal to solid fiberboard 1/16 inch thick for tubes less than 18 inches long, 3/32 inch thick for tubes 18 to 32 inches long, and 5/32 inch thick for tubes more than 32 inches long.

c. Crimped or taped end closures are not acceptable for other than lightweight rolled items. Tape must completely encircle all seams when friction slide closures (end caps) are used.

3.9 Cans and Drums

[Revise 3.9 to read as follows:]

Cans and drums with positive closures (e.g., clips) are acceptable. Friction closures alone are not acceptable. Protruding devices, such as locking rings, must be shielded by padding to prevent injury to USPS employees, and damage to equipment, or other mail.

[Redesignate current 4.0 as new 5.0, current 5.0 as new 6.0, and current 6.0 as new 4.0, and revise heading to read as follows:]

4.0 MAILING CONTAINERS—SPECIAL ENVELOPES

* * * * *

5.0 CUSHIONING

[Redesignate current 4.1 and 4.2 as new 5.2 and 5.3, respectively; add new 5.1 to read as follows:]

5.1 Acceptable Material

Acceptable cushioning material includes bubble wrap, corrugated fiberboard, foamed plastics, and loose-fill material such as excelsior, polystyrene, and shredded paper. Combinations of several types of cushioning (such as corrugated fiberboard pads and less dense, loose-fill material) are also acceptable and help dissipate shock and pressure.

5.2 Volume

[Revise new 5.2 to read as follows:]

Loose-fill cushioning must overfill the mailing container before closure to hold the item and prevent its movement to an inside surface of the container or to other items in the package. Shock and pressure forces must be dissipated over as much of the surface of the item as possible.

5.3 Several Items Within Container

[Revise new 5.3 to read as follows:]

When several items are inside a single mailing container, they must be protected from each other as well as from external forces. Concentrated heavy items must not be packed with fragile items unless extreme care is exercised to separate them from each other. Heavy items must be adequately stabilized.

6.0 CLOSURE, SEALING, AND REINFORCEMENT

[Revise and redesignate current 5.1, 5.2, and 5.3 as new 6.2; add new 6.1 to read as follows:]

6.1 General

Standards for closing, sealing, and reinforcing the outside of a mailing container depend on the load type (see 2.4) and the accetable material. Fragile items must be packed to withstand processing and transportation. The main materials for closing, sealing, and reinforcing mailing containers are adhesives, nonmetallic bandings (strappings), staples and steel stitching, and tapes (gummed and pressure-sensitive). Friction closures, screw caps, and locking devices are used to close and seal cans and similar containers.

6.2 Tapes

[Revise new 6.2 to read as follows:]

Cellophane tape, masking tape, and duct tape may not be used for closure or reinforcement of packages but may be used to improve adhesive closures on envelope flaps or to cover staples on mailing bags. Tape that may be used for closure or reinforcement must meet these standards:

a. Gummed paper (kraft) tape must meet these standards:

(1) Reinforced tape is acceptable for closing and reinforcing regular mailing containers, irregular-shaped parcels, and soft-wrapped parcels.

(2) Nonreinforced tape is acceptable only for closing mailing containers if the tape is at least of a 60-pound basis weight kraft.

(3) The adhesive on gummed tape must be adequately activated before application and firmly applied with the tape extending at least 3 inches over the adjoining side of the box. Gummed tape is applied correctly if it remains attached to the mailing container during handling and transportation and if its removal causes delamination or at least a 50% fiber tear on the surface to which the tape is applied.

b. Pressure-sensitive tape is acceptable for closing and reinforcing mailing containers. Except for pressure-sensitive filament tape, tape used for closure and reinforcement may not be less than 2 inches wide. Nonreinforced plastic tape must be at least as strong in the cross direction (width) as in the machine direction (length) of the tape.

[Redesignate current 5.4, 5.5, and 5.6 as new 6.3, 6.4, and 6.5, respectively.]

6.3 Adhesive

[Revise new 6.3 to read as follows:]

Adhesives for closure on box flaps or on tapes must remain serviceable from −20 degrees to +160 degrees Fahrenheit. Hot-melt adhesive may be used if at least four strips are applied on each part of the box flap where the outer flap overlays the inner flap; each strip is 3/16 inch wide after compression; the strips are not more than 1½ inches apart, with the first strip no more than ½ inch from the center seam; and all strips are the full width of the inner flap, unless hot-melt adhesive is applied to 25% of the area where the outer flap lies over the inner flap.

6.4 Banding

[Revise new 6.4 to read as follows:]

When banding is used for closure and reinforcement, it must snugly encircle the length and girth of the package at least once and be firmly applied to the point that the straps tighten until they depress the box at the edges. Twine, cord, metal strapping (banding), and loose strapping may not be used for closure and reinforcement.

6.5 Staples and Steel Stitching

[Revise 6.5 to read as follows:]

Staples and steel stitching are acceptable if placed not more than 1¼ inches from the ends of the box, and spaced not more than 5 inches apart for easy and average loads, and not more than 2½ inches apart for difficult loads. Boxes not meeting these requirements may be made acceptable by applying a strip of 3-inch-wide reinforced tape in the gap between the staples or by strapping to compensate for the gap in the staple closure. Improperly clinched staples used with reply (double) cards, envelopes, flats, or mailing bags are not acceptable.

* * * * *

[Revise heading of 8.0 to read as follows:]

8.0 PARCEL SORTING SYSTEMS STANDARDS

[Revise heading of 8.1 to read as follows:]

8.1 Books and Printed Material

[Revise 8.1 to read as follows:]

For packaging purposes only, these standards include books and printed material such as magazines, catalogs, and directories with 24 pages or more, fastened (bound) along one edge between hardback, paperback, or self-covers. Books or printed material measuring more than 1 inch thick or weighing more than 1 pound are not acceptable in flat nongusseted envelopes. Other envelopes meeting the standards in 3.7 must be used. Empty spaces within envelopes or other mailing containers must be filled with acceptable cushioning material or otherwise stabilized to prevent shifting, damage to the contents, and breakage to the envelope or other mailing container. Books and publications must be packed, closed, and sealed according to these weight categories:

a. Up to 5 pounds, in close-fitting paperboard or fiberboard boxes, padded or reinforced bags (exterior ply of at least 60-pound basis weight), or wraps (corrugated or at least 60-pound basis weight paper). Closure must be with multiple friction closures, completely clinched staples, heat-sealing, adhesives, tape, or banding. Although shrinkwrap is not acceptable as the sole packaging for hardback books exceeding 1 pound or 1 inch thick, shrinkwrap may be used on the exterior of otherwise acceptable mailing containers. Shrinkwrap at least 2 mils thick may be used as the sole method of packaging for paperback books up to 3 pounds.

b. From 5 to 10 pounds, in 175-pound test fiberboard boxes or equivalent containers. Closure must be with tape, banding, or adhesives. Reinforced tape or firmly applied banding is adequate for closure and reinforcement.

c. From 10 to 25 pounds, in 200-pound test fiberboard boxes or equivalent containers. Closure must be with tape, banding, or adhesives. Reinforced tape or firmly applied banding is adequate for closure and reinforcement.

d. From 25 to 50 pounds, hardbound publications in 275-pound test fiberboard boxes or equivalent containers, and paperback publications in 200-pound test fiberboard boxes or equivalent containers. Closure must be with tape, banding, or adhesives. Reinforced tape or firmly applied banding is adequate for closure and reinforcement.

e. From 50 to 70 pounds, hardbound books in 350-pound test fiberboard boxes or equivalent containers, and paperback books in 275-pound test fiberboard boxes or equivalent containers. Closure must be with tape, banding, or adhesives. Reinforced tape or firmly applied banding is adequate for closure and reinforcement.

8.2 High-Density Items

[Revise 8.2 to read as follows:]

High-density items (see 2.3) must be packed in fiberboard boxes constructed of a minimum specified test board or in containers of equivalent strength constructed of wood, metal, or plastic. Plastic, metal, and similar hard containers must be treated or otherwise prepared so that their coefficient of friction or ability to slide on a smooth, hard surface is similar to that of a domestic-class fiberboard box of the same approximate size and weight. Boxes without inner packing or containing loose material must be reinforced with reinforced paper or plastic tape, pressure-sensitive filament tape, or banding tightened until the straps depress the carton at the edges. Internal blocking and bracing, including the use of interior containers, cut forms, partitions, cushioning material, and liners, must be used as required so that packages maintain their integrity without damage to the contents if dropped once on one of their smallest sides on a solid surface from a height of 3 feet. High-density items must be packed, closed, and sealed according to these weight categories:

a. Up to 20 pounds, 200-pound test fiberboard boxes or equivalent containers. Closure must be with staples, heat-shrinking, adhesives, or tape. Reinforced tape, pressure-sensitive filament tape, or banding is adequate for reinforcement.

b. From 20 to 35 pounds, 200-pound test fiberboard boxes or equivalent containers. Closure must be with staples, heat-shrinking, adhesives, or tape. Pressure-sensitive filament tape or banding is adequate for reinforcement.

c. From 35 to 70 pounds, 275-pound test fiberboard boxes or equivalent containers. Closure must be with staples, heat-shrinking, adhesives, or tape. Pressure-sensitive filament tape or banding is adequate for reinforcement.

8.3 Soft Goods

[Revise 8.3 to read as follows:]

Soft goods include clothing and any textile items such as sheets, blankets, pillows, draperies, and cloth. Soft goods may be packed in mailing bags or boxes. Soft goods intended for processing on USPS parcel sorting equipement must be in mailing containers made of extra-strength materials to ensure container integrity throughout processing. Closure of bags must be with completely clinched staples, heat-sealing, adhesives, stitching, or tape. Paper bags, plastic bags, or wraps must be secured to allow compression and prevent bursting during processing and transportation. Closure of boxes and similar mailing containers must be with staples, adhesive, heat sealing, banding, reinforced tape, or pressure-sensitive tape. Reinforced tape is adequate to close and reinforce bags and boxes. Shrinkwrapping is not acceptable as the only packaging. Soft goods must be packed, closed, and sealed according to these weight categories:

a. Up to 5 pounds, cloth bag, paper bag, paper wraps (with an exterior ply of at least 50-pound basis weight), plastic bag (at least 2 mils thick polyethylene or equivalent), or paperboard or fiberboard box.

b. From 5 to 10 pounds, cloth bag, paper bag, filament-reinforced paper bag, paper wraps (with an exterior ply of at least 70-pound basis weight), plastic bag (at least 4 mils thick polyethylene or equivalent), or paperboard or fiberboard box.

c. From 10 to 20 pounds, paper bag, paper wraps (with an exterior ply of at least 70-pound basis weight), reinforced paper bag, or 175-pound test fiberboard box or equivalent container

d. From 20 to 35 pounds, 200-pound test fiberboard box or equivalent container. Closure must be with staples, heat-shrinking, adhesives, or tape. Pressure-sensitive filament tape or banding is adequate for reinforcement.

e. From 35 to 70 pounds, 275-pound test fiberboard box or equivalent container. Closure must be with staples, heat-shrinking, adhesives, or tape. Pressure-sensitive filament tape or banding is adequate for reinforcement.

[Revise heading of 8.4 to read as follows:]

8.4 Records and Compact Discs

[Revise 8.4 to read as follows:]

Audio and video records and compact discs, (and paper sleeves, paperboard or chipboard shells, or plastic cases) must be packed, closed, and sealed according to these weight categories:

a. Up to 10 pounds, individual or multiple shell in 70-pound basis weight envelopes for shipments up to 3 pounds, or outer corrugated, fiberboard containers for shipments up to 10 pounds. Closure and reinforcement must be with adhesives, kraft paper tape, equivalent plastic tape, or staples.

b. From 10 to 20 pounds, multiple shell containers in 125-pound test fiberboard boxes or equivalent containers. Closure must be with adhesives, kraft paper tape, equivalent plastic tape, or staples. Reinforced tape, pressure-sensitive filament tape, or banding is adequate for reinforcement. Reinforced tape is adequate for closure and reinforcement.

c. From 20 to 35 pounds, multiple shell containers in 175-pound test fiberboard boxes or equivalent containers. Closure and reinforcement must be with adhesives, kraft paper tape, equivalent plastic tape, or staples.

d. From 35 to 70 pounds, multiple shell containers in 200-pound test fiberboard boxes or equivalent containers (for shipments weighing 35 to 65 pounds) or in 275-pound test fiberboard boxes or equivalent containers (for shipments weighing more than 65 pounds). Reinforced tape, pressure-sensitive filament tape, or banding is adequate for reinforcement. Reinforcement must be placed about every 8 inches around the container.

8.5 Magnetic Tapes

[Revise 8.5 to read as follows:]

A single tape or cartridge (e.g., audio or video) may be packed in plastic film wrap (at least 0.75 mil thick) or in cushioned bags, or cushioned and packed in paper bags with a 60-pound minimum basis weight. Shrinkwrapping is acceptable on the exterior of otherwise acceptable boxes of multiple tape shipments. Shipments of multiple magnetic tapes and cartridges must be packed and sealed according to these weight categories:

a. Up to 5 pounds, in 125-pound test fiberboard boxes or equivalent containers. Closure must be with multiple friction closures, completely clinched staples, heat-shrinking or adhesives, or tape. Paper tape must be at least 60-pound basis weight kraft.

b. From 5 to 20 pounds, in 125-pound test fiberboard boxes or equivalent containers. Closure must be with adhesives, kraft paper tape, equivalent plastic tape, or staples.

c. From 20 to 35 pounds, in 175-pound test fiberboard boxes or equivalent containers that are banded or reinforced at two points with reinforced paper or plastic tape, pressure-sensitive filament tape, or firmly applied banding. Closure and reinforcement must be with adhesives, kraft paper tape, equivalent plastic tape, or staples.

d. From 35 to 70 pounds, in 200-pound test fiberboard boxes or equivalent containers (for shipments weighing 35 to 65 pounds) or in 275-pound test fiberboard boxes or equivalent containers (for shipments weighing more than 65 pounds). Closure and reinforcement must be with adhesives, kraft paper tape, equivalent plastic tape, or staples. Reinforcement must be placed about every 8 inches around the container.

* * * * *

C020 Restricted or Nonmailable Articles and Substances

* * * * *

C022 Perishables

* * * * *

3.0 LIVE ANIMALS

* * * * *

3.5 Adult Chickens

[Change in second sentence “(detailed in Publication 2, Packaging for Mailing)” to “(see G043 for address).”]

* * * * *

G General Information

G000 The USPS and Mailing Standards

* * * * *

G040 Information Resources

* * * * *

G043 Address List for Correspondence

* * * * *

OTHER

* * * * *

[Add address to read as follows:]

International Safe Transit Association, 1400 Abbott Rd Ste 160, East Lansing MI 48823-1900, http://www.ista.org.

* * * * *

M Mail Preparation and Sortation

M000 General Preparation Standards

* * * * *

M040 Pallets

M041 General Standards

* * * * *

5.0 PREPARATION

* * * * *

5.6 Mail on Pallets

These standards apply to mail on pallets:

* * * * *

[Add new 5.6j to read as follows:]

j. High-density parcels (see C010) weighing 25 to 35 pounds must not be placed on the same pallet with machinable parcels.

* * * * *

We will publish an appropriate amendment to 39 CFR 111 to reflect these changes if the proposal is adopted.

Neva R. Watson,
Attorney.

[FR Doc. 04-4212 Filed 2-25-04; 8:45 am]

BILLING CODE 7710-12-P